DEPARTMENT OF HEALTH AND HUMAN SERVICES

Centers for Disease Control and Prevention

[30Day-25-24FI]

Agency Forms Undergoing Paperwork Reduction Act Review

In accordance with the Paperwork Reduction Act of 1995, the Centers for Disease Control and Prevention (CDC) has submitted the information collection request titled “Comprehensive Evaluations for the Well-Integrated Screening and Evaluation for Women Across the Nation Program (WISEWOMAN), The National Cardiovascular Health Program (The National CVH Program), and The Innovative Cardiovascular Health Program (The Innovative CVH Program)” to the Office of Management and Budget (OMB) for review and approval. CDC previously published a “Proposed Data Collection Submitted for Public Comment and Recommendations” notice on 5/7/2024 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Comprehensive Evaluations for the Well-Integrated Screening and Evaluation for Women Across the Nation Program (WISEWOMAN), The National Cardiovascular Health Program (The National CVH Program), and The Innovative Cardiovascular Health Program (The Innovative CVH Program)—New—National Center for Chronic Disease Prevention and Health Promotion (NCCDPHP), Centers for Disease Control and Prevention (CDC).

Background and Brief Description

The Centers for Disease Control and Prevention (CDC) Division for Heart Disease and Stroke Prevention (DHDSP) are submitting this new three-year information collection request (ICR) for an evaluation of the three recently launched cooperative agreements: Well-Integrated Screening of Women Across the Nation (WISEWOMAN), The National Cardiovascular Health Program (The National CVH Program), and The Innovative Cardiovascular Health Program (The Innovative CVH Program). The WISEWOMAN program supports the early detection and treatment of hypertension in low-income, uninsured, and underinsured participants, ages 35-64. The National CVH Program implements evidence-based strategies to manage CVD in populations impacted by the high prevalence of CVD, exacerbated by health inequities and disparities, social determinants, such as low incomes, poor health care, and unfair opportunity structures, emphasizing hypertension and high cholesterol control among adults aged 18-85. The Innovative CVH Program focuses on implementing innovative evidence-based strategies assess and address the disparities and inequities in communities at highest risk, where there is a particular need for equity-focused health system interventions to prevent, detect, control, and manage hypertension and high cholesterol, specifically among populations with a crude hypertension prevalence rate of 53% or higher at the census tract level. For two of the cooperative agreements, recipients collaborate with public health entities, health systems, health care providers, community leaders, and other partners through Learning Collaboratives to facilitate sustainable change and improvement in cardiovascular health outcomes, particularly for those at the highest risk of poorer health outcomes. These cooperative agreements build upon CDC's previous work of identify promising CVD prevention and management practices and funding various organizations, including State and County governments, American Indian or Alaska Native tribal governments, non-government organizations, institutions of higher education, to implement evidence-based strategies in their jurisdictions. Since the cooperative agreements are a substantial investment of federal funds, it is important to demonstrate the types of interventions being implemented and what is being accomplished using these funds through a comprehensive evaluation.

The comprehensive evaluation of these programs includes process and outcome evaluations, and a cross-program analysis to assess the unique contributions of each program towards evidence-based strategies, health equity advancement, and health system transformation over the five program years. The evaluation aims to describe the implementation of the programs, assess the extent to which short-term, intermediate, and long-term outcomes have been met, and estimate the costs involved in implementing the programs. The comprehensive evaluation is designed to complement the evaluations already being conducted by program recipients. The data collection focuses on obtaining qualitative and cost information at the organizational and community levels about strategy implementation, facilitators and barriers, and other contextual information that affects program implementation and participant outcomes. Data collection activities of the comprehensive evaluation include qualitative interviews for evaluability assessments, exploratory assessments, and cost data collected for a cost study. During the qualitative data collection, semi-structured interviews will be conducted with recipients, their partnering sites, and Learning Collaborative members, providing a multifaceted view of the program's implementation and outcomes. Cost data will be used to estimate the implementation costs and value of resources invested by program recipients and their partners. Cost data will be collected through an excel-based cost inventory tool, key informant interviews, and document reviews. There are no costs to respondents except their time. Data collection tools are crafted to ensure relevance and to capture essential information needed to evaluate the effectiveness and impact of the program strategies, while minimizing respondent burden.

The findings from the data collection will provide tailored, action-oriented, and timely recommendations for program improvement throughout the program period. It will foster documentation and sharing of lessons learned, contribute to the evidence base, and support replication and scaling of promising program strategies. Without collection of evaluative data, CDC will not be able to capture critical information needed to continuously improve programmatic efforts and clearly demonstrate the use of federal funds. CDC requests OMB approval for 484 annual burden hours. There is no cost to respondents other than their time to participate.

Estimated Annualized Burden Hours
Type of respondents | Form name | Number of respondents | Number of responses per respondent | Average burden per response (in hours)
Recipients | Evaluability Assessment Nomination Form_NCHP_ICHP | 24 | 1 | 0.5
| Evaluability Assessment Nomination Form_WW | 12 | 1 | 0.5
| Eval Assessment CQM Recipient Interview Guide NCHP_ICHP | 6 | 1 | 1.5
| Eval Assessment CQM Recipient Interview Guide WW | 3 | 1 | 1.5
| Eval Assessment TBC Recipient Interview Guide NCHP_ICHP | 6 | 1 | 1.5
| Eval Assessment TBC Recipient Interview Guide WW | 3 | 1 | 1.5
| Eval Assessment CCL Recipient Interview Guide NCHP_ICHP | 3 | 1 | 1.5
| Eval Assessment CCL Recipient Interview Guide WW | 3 | 1 | 1.5
| Ex Assessment CQM Recipient Interview Guide NCHP_ICHP | 3 | 1 | 1.5
| Ex Assessment CQM Recipient Interview Guide_WW | 2 | 1 | 1.5
| Ex Assessment TBC Recipient Interview Guide NCHP_ICHP | 3 | 1 | 1.5
| Ex Assessment TBC Recipient Partner Interview Guide_WW | 2 | 1 | 1.5
| Ex Assessment CCL Recipient Interview Guide NCHP_ICHP | 3 | 1 | 1.5
| Ex Assessment CCL Recipient Interview Guide_WW | 2 | 1 | 1.5
| Cost Study Interview Guide_Recipient | 37 | 1 | 1
| Comprehensive Evaluation Resource Use and Cost Inventory Tool_Recipient | 37 | 1 | 2.5
Partners | Eval Assessment CQM Partner Interview Guide NCHP_ICHP | 6 | 1 | 1.5
| Eval Assessment CQM Partner Interview Guide WW | 3 | 1 | 1.5
| Eval Assessment TBC Partner Interview Guide NCHP_ICHP | 6 | 1 | 1.5
| Eval Assessment TBC Partner Interview Guide WW | 3 | 1 | 1.5
| Eval Assessment CCL Partner Interview Guide NCHP_ICHP | 6 | 1 | 1.5
| Eval Assessment CCL Partner Interview Guide WW | 3 | 1 | 1.5
| Ex Assessment CQM Partner Interview Guide NCHP_ICHP | 3 | 1 | 1.5
| Ex Assessment CQM Partner Interview Guide_WW | 1 | 1 | 1.5
| Ex Assessment CCL Partner Interview Guide NCHP_ICHP | 3 | 1 | 1.5
| Ex Assessment CCL Partner Interview Guide_WW | 1 | 1 | 1.5
| Ex Assessment TBC Partner Interview Guide NCHP_ICHP | 3 | 1 | 1.5
| Ex Assessment TBC Partner Interview Guide_WW | 1 | 1 | 1.5
| Cost Study Interview Guide_Partner | 55 | 1 | 1
| Comprehensive Evaluation Resource Use and Cost Inventory Tool_Partner | 55 | 1 | 2.5
Learning Collaborative | Eval Assessment LC Interview Guide NCHP ICHP | 12 | 1 | 1
| Ex Assessment LC Interview Guide NCHP_ICHP | 6 | 1 | 1

Jeffrey M. Zirger,
Lead, Information Collection Review Office, Office of Public Health Ethics and Regulations, Office of Science, Centers for Disease Control and Prevention.

[FR Doc. 2024-25986 Filed 11-7-24; 8:45 am]

BILLING CODE 4163-18-P